DEPARTMENT OF LABOR

Wage and Hour Division

Presidential Memorandum of March 13, 2014; Updating and Modernizing Overtime Regulations

AGENCY: Wage and Hour Division, Department of Labor.

ACTION: Notice.

On March 13, 2014, President Barack Obama issued a memorandum to the Secretary of Labor, directing him to modernize and streamline the existing overtime regulations for executive, administrative and professional employees. The last change to these overtime regulations was in 2004.

The text of this memorandum reads—

The Fair Labor Standards Act (the “Act”), 29 U.S.C. 201 et seq., provides basic rights and wage protections for American workers, including Federal minimum wage and overtime requirements. Most workers covered under the Act must receive overtime pay of at least 1.5 times their regular pay rate for hours worked in excess of 40 hours per week.

However, regulations regarding exemptions from the Act's overtime requirement, particularly for executive, administrative, and professional employees (often referred to as “white collar” exemptions) have not kept up with our modern economy. Because these regulations are outdated, millions of Americans lack the protections of overtime and even the right to the minimum wage.

Therefore, I hereby direct you to propose revisions to modernize and streamline the existing overtime regulations. In doing so, you shall consider how the regulations could be revised to update existing protections consistent with the intent of the Act; address the changing nature of the workplace; and simplify the regulations to make them easier for both workers and businesses to understand and apply.

This memorandum is not intended to, and does not, create any right or benefit, substantive or procedural, enforceable at law or in equity by any party against the United States, its departments, agencies, or entities, its officers, employees, or agents, or any other person.

Nothing in this memorandum shall be construed to impair or otherwise affect the authority granted by law to a department or agency, or the head thereof.

You are hereby authorized and directed to publish this memorandum in the Federal Register.

FOR FURTHER INFORMATION CONTACT: Mary Ziegler, Director, Division of Regulations, Legislation, and Interpretation, Wage and Hour, U.S. Department of Labor, Room S-3502, 200 Constitution Avenue NW., Washington, DC 20210; telephone: (202) 693-0406 (this is not a toll-free number). Copies of this notice may be obtained in alternative formats (Large Print, Braille, Audio Tape, or Disc), upon request, by calling (202) 693-0023 (not a toll-free number). TTY/TTD callers may dial toll-free (877) 889-5627 to obtain information or request materials in alternative formats.

Dated: March 21, 2014.
Laura A. Fortman,
Principal Deputy Administrator, Wage and Hour Division.

[FR Doc. 2014-07379 Filed 4-2-14; 8:45 am]

BILLING CODE 4510-27-P